DEPARTMENT OF COMMERCE

National Oceanic and Atmospheric Administration

Proposed Information Collection; Comment Request; Cook Inlet Beluga Whale Economic Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 9, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Dan Lew, (530) 752-1746 or Dan.Lew@noaa.gov.

SUPPLEMENTARY INFORMATION:

I. Abstract

The population of Cook Inlet beluga whales found in the Cook Inlet of Alaska is one of five distinct population segments in United States (U.S.) waters. It was listed as endangered under the Endangered Species Act on October 22, 2008 (73 FR 62919). The public benefits associated with the results of protection actions on the Cook Inlet beluga whale, such as population increases, are primarily the result of the non-consumptive value people attribute to such protection (e.g., active use values associated with being able to view beluga whales and passive use values unrelated to direct human use). Little is known about these values, yet such information is needed for decision makers to more fully understand the trade-offs involved in choosing among potential protection alternatives and to complement other information available about the costs, benefits, and impacts of protection alternatives.

The National Marine Fisheries Service (NMFS) plans to conduct a survey to collect data for measuring the economic benefits the public receives for providing additional protection, beyond current levels, to the Cook Inlet beluga whale. These preferences are currently not known, but are needed to assist in the evaluation of alternative measures to further protect and recover the species' population, such as in the evaluation of critical habitat designations. The survey consists of conducting a mail-telephone survey of U.S. households to collect data that will be used to measure these public preferences and values.

During 2011, NMFS fielded a pilot version of the survey to a small number of U.S. households, primarily to evaluate the survey administration procedures prior to sending the survey out to a larger and more representative sample. The results of this pretest indicated the need to make minor adjustments to the survey administration (e.g., timing of mailings and telephone calls), which will be incorporated in the data collection to which this notice pertains.

II. Method of Collection

Data will be collected primarily through a mail survey of a random sample of U.S. households with an oversampling of Alaska households. Additional data will be collected in telephone interviews with individuals who do not respond to the mail survey.

III. Data

OMB Control Number: None.

Form Number: None.

Type of Review: Regular submission.

Affected Public: Individuals or households.

Estimated Number of Respondents: 4,200.

Estimated Time per Response: 25 minutes.

Estimated Total Annual Burden Hours: 1,750.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 1, 2012.
Gwellnar Banks,
Management Analyst, Office of the Chief Information Officer.

[FR Doc. 2012-2671 Filed 2-6-12; 8:45 am]

BILLING CODE 3510-22-P